Presidential Determination No. 2014-18 of September 30, 2014

Determination With Respect to the Child Soldiers Prevention Act of 2008

Memorandum for the Secretary of State

Pursuant to section 404 of the Child Soldiers Prevention Act of 2008 (CSPA) (title IV, Public Law 110-457), as amended, I hereby determine that it is in the national interest of the United States: to waive the application of the prohibition in section 404(a) of the CSPA with respect to Rwanda, Somalia, and Yemen; to waive in part the application of the prohibition in section 404(a) of the CSPA with respect to the Central African Republic to allow for provision of International Military Education and Training (IMET); to waive in part the application of the prohibition in section 404(a) of the CSPA with respect to the Democratic Republic of the Congo to allow for provision of IMET, nonlethal Excess Defense Articles, the issuance of licenses for direct commercial sales of U.S. origin nonlethal defense articles, Peacekeeping Operations (PKO) assistance, and support provided pursuant to section 1208 of the National Defense Authorization Act for Fiscal Year 2014 to the extent such support would be restricted by the CSPA; and to waive in part the application of the prohibition in section 404(a) of the CSPA with respect to South Sudan to allow for the provision of PKO assistance and support provided pursuant to section 1208 of the National Defense Authorization Act for Fiscal Year 2014 to the extent such support would be restricted by the CSPA. I hereby waive such provisions accordingly.

You are authorized and directed to submit this determination to the Congress, along with the accompanying Memorandum of Justification, and to publish the determination in the Federal Register.

THE WHITE HOUSE,

Washington, September 30, 2014

[FR Doc. 2014-27870

Filed 11-20-14; 11:15 am]

Billing code 4710-10